DEPARTMENT OF ENERGY

Federal Energy Regulatory Commission

Combined Notice of Filings #1

Take notice that the Commission received the following electric rate filings:

Docket Numbers: ER21-1612-000.

Applicants: Georgia Power Company.

Description: Initial rate filing: SR Cedar Springs Affected System Construction Agreement (GPAS 015) Filing to be effective 2/1/2021.

Filed Date: 4/2/21.

Accession Number: 20210402-5150.

Comments Due: 5 p.m. ET 4/23/21.

Docket Numbers: ER21-1613-000.

Applicants: Alabama Power Company.

Description: Initial rate filing: Cedar Springs Solar Affected System Upgrade Agreement Filing to be effective 3/18/2021.

Filed Date: 4/2/21.

Accession Number: 20210402-5152.

Comments Due: 5 p.m. ET 4/23/21.

Docket Numbers: ER21-1614-000.

Applicants: Georgia Power Company.

Description: Initial rate filing: Cedar Springs Affected System Upgrade Agreement Filing to be effective 3/18/2021.

Filed Date: 4/2/21.

Accession Number: 20210402-5153.

Comments Due: 5 p.m. ET 4/23/21.

Docket Numbers: ER21-1615-000.

Applicants: Mississippi Power Company.

Description: Initial rate filing: Cedar Springs Solar Affected System Upgrade Agreement Filing to be effective 3/18/2021.

Filed Date: 4/2/21.

Accession Number: 20210402-5155.

Comments Due: 5 p.m. ET 4/23/21.

Docket Numbers: ER21-1616-000.

Applicants: Daylight I, LLC.

Description: Daylight I, LLC submits tariff filing per 35.1: Facilities Use Agreements to be effective 6/1/2021.

Filed Date: 4/2/21.

Accession Number: 20210402-5303.

Comments Due: 5 p.m. ET 4/23/21.

Docket Numbers: ER21-1617-000.

Applicants: Edwards Solar Line I, LLC.

Description: Baseline eTariff Filing: Certificates of Concurrence to Facilities Use Agreements to be effective 6/1/2021.

Filed Date: 4/2/21.

Accession Number: 20210402-5203.

Comments Due: 5 p.m. ET 4/23/21.

Docket Numbers: ER21-1618-000.

Applicants: Sanborn Solar Line I, LLC.

Description: Baseline eTariff Filing: Certificates of Concurrence to Facilities Use Agreements to be effective 6/1/2021.

Filed Date: 4/2/21.

Accession Number: 20210402-5222.

Comments Due: 5 p.m. ET 4/23/21.

Docket Numbers: ER21-1620-000.

Applicants: Arizona Solar One LLC.

Description: Compliance filing: Arizona Solar One, LLC MBR Tariff Revision to be effective 4/6/2021.

Filed Date: 4/5/21.

Accession Number: 20210405-5583.

Comments Due: 5 p.m. ET 4/26/21.

Docket Numbers: ER21-1621-000.

Applicants: Mojave Solar LLC.

Description: Compliance filing: Mojave Solar MBR Tariff Revisions to be effective 4/6/2021.

Filed Date: 4/5/21.

Accession Number: 20210405-5586.

Comments Due: 5 p.m. ET 4/26/21.

Take notice that the Commission received the following qualifying facility filings:

Docket Numbers: QF21-669-000.

Applicants: Georgia-Pacific Consumer Operations LLC.

Description: Form 556 of Georgia-Pacific Consumer Operations LLC.

Filed Date: 4/5/21.

Accession Number: 20210405-5428.

Comments Due: None-Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 5, 2021.
Nathaniel J. Davis, Sr.,
Deputy Secretary.

[FR Doc. 2021-07392 Filed 4-9-21; 8:45 am]

BILLING CODE 6717-01-P